DEPARTMENT OF ENERGY

Federal Energy Regulatory Commission

[Docket Nos. RM07-16-000; AD22-11-000; AD21-9-000]

Office of Public Participation Fundamentals for Participating in FERC Matters; Notice of Enhancements To eComment

Take notice that effective September 25, 2024, the Federal Energy Regulatory Commission's (Commission) electronic application for filing comments, called eComment, will include improved functionalities. The main improvement is that eComment will accept comments in the additional Docket Types: AD, RM, and PL, which the Commission uses for policy type proceedings of general applicability such as rulemakings. Other system enhancements include extending the 30-minute session time out to 60 minutes; supporting comments of up-to 10,000 characters; and removing certain special character restrictions from eComment that in the past prevented the submission of comments.

These system enhancements were developed in response to public comments filed in Docket No. AD21-9 for the establishment of the Office of Public Participation regarding streamlining the steps for individuals to participate in rulemakings.

The enhancements to eComment do not change or affect eFiling. eFiling will continue to accept comments for all the Docket Types it currently supports.

For more information about eComment and FERC online, please contact FERC Online Support or call local: 202-502-6652, toll-free: 866-208-3676. Please include a current mail address, telephone number, and email address.

Dated: September 25, 2024.
Debbie-Anne A. Reese,
Acting Secretary.

[FR Doc. 2024-22487 Filed 9-30-24; 8:45 am]

BILLING CODE 6717-01-P